DEPARTMENT OF DEFENSE

Department of the Navy

Notice of Proposed Information Collection; Headquarters, U.S. Marine Corps

AGENCY: Department of the Navy, DOD.

ACTION: Notice.

SUMMARY: The Headquarters, U.S. Marine Corps announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 19, 2001.

ADDRESSES: Send written comments and recommendations on the proposed information collection to MCCDC, Training and Education Division, Head, Training Programs Branch, Code C462R, 2034 Barnett Avenue, Suite 201, Quantico, VA 22134-5012.

FOR FURTHER INFORMATION CONTACT: To request additional information or to obtain a copy of the proposal and associated collection instruments, contact Mr. Les Wood at (703) 784-3705.

SUPPLEMENTARY INFORMATION: Form Title and OMB Number: Individual MCJROTC Instructor Evaluation Summary; OMB Control Number 0703-0016.

Needs and Uses: This form provides a written record of the overall performance of duty of Marine instructors who are responsible for implementing the Marine Corps Junior Reserve Officers' Training Corps (MCJROTC). The Individual MCJROTC Instructor Evaluation Summary is completed by principals to evaluate the effectiveness of individual Marine instructors. The form is further used as a performance related counseling tool and as a record of service performance to document performance and growth of individual Marine instructors. Evaluating the performance of instructors is essential in ensuring that they provide quality training.

Annual Burden Hours: 60.

Number of Respondents: 120.

Responses per Respondent: 1.

Average Burden per Response: 30 minutes.

Frequency: Biennially.

(Authority: 44 U.S.C. Sec. 3506(c)(2)(A))

Dated: April 6, 2001.
J.L. Roth,
Lieutenant Commander, Judge Advocate General's Corps, U.S. Navy, Federal Register Liaison Officer.

[FR Doc. 01-9747 Filed 4-19-01; 8:45 am]

BILLING CODE 3810-FF-P